DEPARTMENT OF AGRICULTURE

National Institute of Food and Agriculture

Notice of Intent To Extend and Revise Currently Approved Information Collection

AGENCY: National Institute of Food and Agriculture, USDA.

ACTION: Notice and request for comments.

SUMMARY: In accordance with the Paperwork Reduction Act of 1995 and Office of Management and Budget (OMB) regulations, this notice announces the National Institute of Food and Agriculture's (NIFA) intention to extend and revise a previously approved information collection, entitled NIFA Application Kit. This information collection replaces an existing information collection, also entitled NIFA Application Kit.

DATES: Written comments on this notice must be received by January 24, 2022 to be assured of consideration. Comments received after that date will be considered to the extent practicable.

ADDRESSES: You may submit comments through the Federal eRulemaking Portal: http://www.regulations.gov. Follow the instructions for submitting comments.

Instructions: All comments received will be posted without change to http://www.regulations.gov, including any personal information provided.

FOR FURTHER INFORMATION CONTACT: Robert Martin, 202-445-5388, Robert.martin3@usda.gov.

SUPPLEMENTARY INFORMATION: Title of Collection: NIFA Application Kit.

OMB Control Number: 0524-0039.

Expiration Date of Current Approval: 12/31/2021.

Type of Request: Notice of intent to extend and revise a currently approved information collection. The burden for this collection remains unchanged.

NIFA is requesting a three-year extension for the current collection entitled “NIFA Application Kit.”

NIFA is also proposing non-substantive updates to the existing “Application Type Form” to reflect all grant types currently available. The form will be modified to include “New Investigator Seed” as an additional option under “Grant Type.”

Abstract: The National Institute of Food and Agriculture (NIFA) sponsors ongoing agricultural research, extension, and education programs under which competitive, formula, and special awards of a high-priority nature are made. Because competitive applications are submitted, many of which necessitate review by peer panelists, it is particularly important that applicants provide the information in a standardized fashion to ensure equitable treatment for all.

Standardization is also important to applicants to other programs as it lends itself to a more efficient process and minimizes administrative burden. For this reason, NIFA uses standard forms in the SF-424 Research and Related (R&R) form family which includes agency-specific forms for the application process. NIFA issues Requests for Application (RFAs) that includes the instructions for the preparation and submission of applications. These instructions provide, where appropriate, the necessary format for information in order to expedite, to the extent possible, the application review process. NIFA requires submission of applications electronically through Grants.gov.

The forms and narrative information are mainly used for application evaluation and administration purposes. While some of the information is used to respond to inquiries from Congress and other government agencies, the forms are not designed to be statistical surveys.

Also included in this information collection is one form which only applies to recipients of a NIFA fellowship/scholarship. The form is only used to document pertinent demographic data on the fellows/scholars, documentation of the progress of the fellows/scholars under the program, and performance outcomes of the student beneficiaries.

Respondents: Universities, non-profit institutions, State, local, or Tribal government, and a limited number of for- profit institutions and individuals.

Estimated Number of Respondents by form:

Letter of Intent: 2,739.

Form NIFA-2008 Assurance Statement(s): 2,000.

Supplemental Information: 5,377.

Application Type: 2,200.

Proposal Type Form: 2,687.

NIFA-2010 Fellowships/Scholarships Entry/Exit: 150.

The individual form burden is as follows (calculated based on a survey of grant applicants conducted by NIFA):

Letter of Intent: 2 hours.

Form NIFA-2008 Assurance Statement(s): 30 minutes.

Supplemental Information: 2 hours.

Application Type: 15 minutes.

Proposal Type Form: 15 minutes.

NIFA-2010 Fellowships/Scholarships Entry/Exit: 3 hours.

Estimated Total Annual Burden on the public for all forms: 18,354 hours.

Frequency of Respondents: Annually.

Comments: Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Robert Martin as directed above.

Done at Washington, DC, this day of November 18, 2021.
Carrie L. Castille,
Director, National Institute of Food and Agriculture, U.S. Department of Agriculture.

[FR Doc. 2021-25665 Filed 11-23-21; 8:45 am]

BILLING CODE P